INTERNATIONAL TRADE COMMISSION

[Investigation Nos. 731-TA-753, 754, and 756 (Fourth Review)]

Cut-to-Length Carbon Steel Plate From China, Russia, and Ukraine

Determinations

On the basis of the record ¹ developed in the subject five-year reviews, the United States International Trade Commission (“Commission”) determines, pursuant to the Tariff Act of 1930 (“the Act”), that revocation of the antidumping duty order on cut-to-length carbon steel plate from China and the termination of the suspended investigations on cut-to-length carbon steel plate from Russia and Ukraine would be likely to lead to continuation or recurrence of material injury to an industry in the United States within a reasonably foreseeable time.

¹ The record is defined in § 207.2(f) of the Commission's Rules of Practice and Procedure (19 CFR 207.2(f)).

Background

The Commission instituted these reviews on November 2, 2020 (85 FR 69362) and determined on February 5, 2021 that it would conduct expedited reviews (86 FR 26067, May 12, 2021).

The Commission made these determinations pursuant to section 751(c) of the Act (19 U.S.C. 1675(c)). It completed and filed its determinations in these reviews on June 21, 2021. The views of the Commission are contained in USITC Publication 5205 (June 2021), entitled Cut-to-Length Carbon Steel Plate from China, Russia, and Ukraine: Investigation Nos. 731-TA-753, 754, and 756 (Fourth Review).

By order of the Commission.
Issued: June 21, 2021.
Lisa Barton,
Secretary to the Commission.

[FR Doc. 2021-13523 Filed 6-24-21; 8:45 am]

BILLING CODE 7020-02-P